DEPARTMENT OF THE INTERIOR

Office of the Secretary

25 CFR Ch. I

30 CFR Chs. II and VII

36 CFR Ch. I

43 CFR Subtitle A, Chs. I and II

48 CFR Ch. 14

50 CFR Chs. I and IV

Semiannual Regulatory Agenda

AGENCY: Office of the Secretary, Interior.

ACTION: Semiannual regulatory agenda.

SUMMARY: This notice provides the semiannual agenda of rules scheduled for review or development between spring 2014 and spring 2015. The Regulatory Flexibility Act and Executive Order 12866 require publication of the agenda.

ADDRESSES: Unless otherwise indicated, all agency contacts are located at the Department of the Interior, 1849 C Street NW., Washington, DC 20240.

FOR FURTHER INFORMATION CONTACT: Direct all comments and inquiries to the appropriate agency contact. Direct general comments relating to the agenda to the Office of Executive Secretariat and Regulatory Affairs, Department of the Interior, at the address above or at 202-208-5257 or 202-208-3071.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have these effects.

Mark Lawyer,
Federal Register Liaison Officer.

Bureau of Safety and Environmental Enforcement—Proposed Rule Stage
Sequence No. | Title | Regulation Identifier No.
191 | Blowout Prevention Systems | 1014-AA11

Bureau of Safety and Environmental Enforcement—Final Rule Stage
Sequence No. | Title | Regulation Identifier No.
192 | Production Safety Systems and Lifecycle Analysis | 1014-AA10

United States Fish and Wildlife Service—Prerule Stage
Sequence No. | Title | Regulation Identifier No.
193 | National Wildlife Refuge System; Oil and Gas Regulations | 1018-AX36

United States Fish and Wildlife Service—Proposed Rule Stage
Sequence No. | Title | Regulation Identifier No.
194 | Injurious Wildlife Evaluation; Constrictor Species From Python, Boa, and Eunectes Genera | 1018-AV68

National Park Service—Proposed Rule Stage
Sequence No. | Title | Regulation Identifier No.
195 | Non-Federal Oil and Gas Rights | 1024-AD78

Office of Surface Mining Reclamation and Enforcement—Proposed Rule Stage
Sequence No. | Title | Regulation Identifier No.
196 | Stream Protection Rule | 1029-AC63

DEPARTMENT OF THE INTERIOR (DOI)

Bureau of Safety and Environmental Enforcement (BSEE)

Proposed Rule Stage

191. Blowout Prevention Systems

Legal Authority: 30 U.S.C. 1751; 31 U.S.C. 9701; 43 U.S.C. 1334

Abstract: This proposed rule would revise regulations related to blowout preventers (BOPs). BSEE regulations for BOPs currently consist of: (1) Field pressure and functions tests, (2) performance statements related to BOP capabilities, and (3) several industry practices related to inspection and maintenance. The industry has developed new standards for BOP design and testing that contain significant improvements to existing documents. By incorporating these new requirements into regulations and other supplemental requirements, the regulatory oversight over this critical equipment will be increased.

Timetable:

Action | Date | FR Cite
NPRM | 11/00/14 |
Final Action | 07/00/15 |

Regulatory Flexibility Analysis Required: Yes.

Agency Contact: Amy White, Chief, Regulations and Standards Branch, Department of the Interior, 381 Elden Street, Herndon, VA 20170, Phone: 703 787-1665, Fax: 703 787-1555, Email: amy.white@bsee.gov.

RIN: 1014-AA11

DEPARTMENT OF THE INTERIOR (DOI)

Bureau of Safety and Environmental Enforcement (BSEE)

Final Rule Stage

192. Production Safety Systems and Lifecycle Analysis

Legal Authority: 31 U.S.C. 9701; 43 U.S.C. 1334

Abstract: This proposed rule would amend and update the regulations regarding oil and natural gas production. This rewrite of subpart H regulations would address issues such as production safety systems, subsurface safety devices, and safety device testing. The rule has been expanded to differentiate the requirements for operating dry tree and wet tree production systems on the Outer Continental Shelf (OCS). This rule would also propose an expanded use of lifecycle analysis of critical equipment.

Timetable:

Action | Date | FR Cite
NPRM | 08/22/13 | 78 FR 52240
NPRM Comment Period End | 12/05/13 |
Final Action | 11/00/14 |

Regulatory Flexibility Analysis Required: Yes.

Agency Contact: Amy White, Chief, Regulations and Standards Branch, Department of the Interior, 381 Elden Street, Herndon, VA 20170, Phone: 703 787-1665, Fax: 703 787-1555, Email: amy.white@bsee.gov.

RIN: 1014-AA10

BILLING CODE 4310-VH-P

DEPARTMENT OF THE INTERIOR (DOI)

United States Fish and Wildlife Service (FWS)

Prerule Stage

193. National Wildlife Refuge System; Oil and Gas Regulations

Legal Authority: 16 U.S.C. 668dd to ee; 42 U.S.C. 7401 et seq.; 16 U.S.C. 1131 to 1136; 40 CFR 51.300 to 51.309

Abstract: We propose regulations that ensure that all operators conducting oil or gas operations within a National Wildlife Refuge System unit do so in a manner as to prevent or minimize damage to National Wildlife Refuge System resources, visitor values, and management objectives. FWS does not intend these regulations to result in a taking of a property interest, but rather to impose reasonable controls on operations that affect Federally-owned or controlled lands, and/or waters.

Timetable:

Action | Date | FR Cite
ANPRM | 02/24/14 | 79 FR 10080
ANPRM Comment Period End | 04/25/14 |
ANPRM Comment Period Reopened | 05/00/14 |
NPRM | 08/00/15 |

Regulatory Flexibility Analysis Required: Yes.

Agency Contact: Brian Salem, Conservation Policy Analyst, Department of the Interior, United States Fish and Wildlife Service, 4401 North Fairfax Drive, Arlington, VA 22203, Phone: 703 358-2397, Email: brian_salem@fws.gov.

Scott Covington, Refuge Energy Program Coordinator, Department of the Interior, United States Fish and Wildlife Service, National Wildlife Refuge System, 4401 North Fairfax Drive, Arlington, VA 22203, Phone: 703 358-2427, Email: scott_covington@fws.gov.

Paul Steblein, Refuge Program Specialist, Department of the Interior, United States Fish and Wildlife Service, Suite 670, 4401 North Fairfax Drive, Arlington, VA 22203, Phone: 703 358-2678, Fax: 703 358-1929, Email: paul_steblein@fws.gov.

RIN: 1018-AX36

DEPARTMENT OF THE INTERIOR (DOI)

United States Fish and Wildlife Service (FWS)

Proposed Rule Stage

194. Injurious Wildlife Evaluation; Constrictor Species From Python, Boa, and Eunectes Genera

Legal Authority: 18 U.S.C. 42

Abstract: We are making a final determination on the listing of five species of large constrictor snakes as injurious wildlife under the Lacey Act: Reticulated python, DeSchauensee's anaconda, green anaconda, Beni anaconda, and boa constrictor.

Timetable:

Action | Date | FR Cite
ANPRM | 01/31/08 | 73 FR 5784
ANPRM Comment Period End | 04/30/08 |
NPRM | 03/12/10 | 75 FR 11808
NPRM Comment Period End | 05/11/10 |
NPRM Comment Period Reopened | 07/01/10 | 75 FR 38069
NPRM Comment Period Reopened End | 08/02/10 |
Final Action | 01/23/12 | 77 FR 3330
Final Action Effective | 03/23/12 |
NPRM Comment Period Reopening | 06/00/14 |

Regulatory Flexibility Analysis Required: Yes.

Agency Contact: Mike Weimer, Chief, Division of Fish and Aquatic Conservation, Department of the Interior, United States Fish and Wildlife Service, Suite 700E, 4401 North Fairfax Drive, Arlington, VA 22203, Phone: 703 358-2279, Email: mike_weimer @fws.gov.

RIN: 1018-AV68

BILLING CODE 4310-55-P

DEPARTMENT OF THE INTERIOR (DOI)

National Park Service (NPS)

Proposed Rule Stage

195. Non-Federal Oil and Gas Rights

Legal Authority: 16 U.S.C. 1 et seq.; 16 U.S.C. 1901 et seq.

Abstract: This rule would accommodate new technology and industry practices, eliminate regulatory exemptions, update requirements, remove caps on bond amounts, and allow NPS to recover administrative costs. The changes make the regulations more effective and efficient and maintain the highest level of protection compatible with park resources and values.

Timetable:

Action | Date | FR Cite
ANPRM | 11/25/09 | 74 FR 61596
ANPRM Comment Period End | 01/25/10 |
NPRM | 08/00/14 |

Regulatory Flexibility Analysis Required: Yes.

Agency Contact: Ed Kassman, Regulatory Specialist, Department of the Interior, National Park Service, 12795 West Alameda Parkway, Lakewood, CA 80225, Phone: 303 969-2146, Email: edward_kassman@nps.gov.

RIN: 1024-AD78

BILLING CODE 4310-70-P

DEPARTMENT OF THE INTERIOR (DOI)

Office of Surface Mining Reclamation and Enforcement (OSMRE)

Proposed Rule Stage

196. Stream Protection Rule

Legal Authority: 30 U.S.C. 1201 et seq.

Abstract: On August 12, 2009, the U.S. District Court for the District of Columbia denied the Government's request that the court vacate and remand the Excess Spoil/Stream Buffer Zone rule published on December 12, 2008. Therefore, the Department intends to initiate notice and comment rulemaking to address issues arising from previous rulemakings. The agency also intends to prepare a new environmental impact statement.

Timetable:

Action | Date | FR Cite
ANPRM | 11/30/09 | 74 FR 62664
ANPRM Comment Period End | 12/30/09 |
NPRM | 12/00/14 |

Regulatory Flexibility Analysis Required: Yes.

Agency Contact: Dennis Rice, Regulatory Analyst, Department of the Interior, Office of Surface Mining Reclamation and Enforcement, 1951 Constitution Avenue NW., Washington, DC 20240, Phone: 202 208-2829, Email: drice@osmre.gov.

RIN: 1029-AC63

[FR Doc. 2014-13123 Filed 6-12-14; 8:45 am]

BILLING CODE 4310-05-P